DEPARTMENT OF DEFENSE

Department of the Army, Corps of Engineers

Intent To Prepare an Environmental Impact Statement for Nebraska Department of Transportation U.S. Highway 275 West Point to Scribner Project

AGENCY: Department of the Army, U.S. Army Corps of Engineers, DoD.

ACTION: Notice of intent.

SUMMARY: The U.S. Army Corps of Engineers (Corps) is preparing an Environmental Impact Statement (EIS) in accordance with the National Environmental Policy Act (NEPA) for U.S. Highway 275 (US-275) West Point to Scribner Project (Project) sponsored by the Nebraska Department of Transportation (NDOT). NDOT proposes to expand US-275 from a two-lane highway to a four-lane expressway along an approximately 20-mile segment from northwest of West Point to southeast of Scribner, including a bypass around Scribner (referred to as “Scribner Bypass”), in Cuming and Dodge Counties, Nebraska.

Construction of the Project is expected to impact jurisdictional waters of the United States, thereby requiring a Clean Water Act Section 404 permit. Additionally, NDOT is proposing to build segments of the Scribner Bypass on an existing federally authorized levee, which would require a Section 408 authorization. The Project may also affect Natural Resources Conservation Service (NRCS) Wetland Reserve Program (WRP) easements. Due to these requirements, the Corps has determined an EIS is necessary for the Project. The Corps has determined that the provisions of Executive Order 13807 (“One Federal Decision”) apply to this Project. One Federal Decision is intended to streamline federal permitting processes, including environmental reviews and authorization decisions, for major infrastructure projects.

DATES: A public scoping meeting will be held on Thursday, November 8, 2018 from 5:30 p.m.-7:30 p.m.

ADDRESSES: The public scoping meeting will be held at Mohr Auditorium located at 650 County Road 13 Boulevard, Scribner, NE 68057.

FOR FURTHER INFORMATION CONTACT: Questions regarding the Project and the EIS should be addressed to Phil Rezac, Project Manager, U.S. Army Corps of Engineers, Nebraska Regulatory Office, Wehrspann Field Office, 8901 S 154th Street, Omaha, NE 68138-3621 or at (402) 896-0896; Phil.M.Rezac@usace.army.mil.

SUPPLEMENTARY INFORMATION: NDOT's stated Project purpose is to advance the Scribner to West Point segment of the Norfolk to Fremont Expressway, maximize utilization of existing transportation infrastructure and right-of-way, including connecting highways (N-9, N-32, and N-91), improve the safety and reliability of the roadway, provide a more efficient roadway that improves regional connectivity for the traveling public, including commercial traffic, in northeast Nebraska, and to fulfill the Nebraska Legislature mandates contained in Legislative Bill [LB] 632 and LB 84. The necessity for the expansion of this portion of US-275 arises from legislation, lack of connectivity between urban centers, and high average daily traffic use.

A public scoping meeting will be held Thursday, November 8, 2018 to describe why the Project is needed, preliminary alternatives, the NEPA compliance process, and to solicit input on the issues and alternatives to be evaluated and other related matters. Written comments will also be requested. The Corps has prepared handout materials and developed an EIS website to familiarize other agencies, the public, and interested organizations with the preliminary Project alternatives and potential environmental issues that may be involved. Copies of these handout materials will be available at the public scoping meeting or can be requested by mail. The EIS website can be found at http://www.nwo.usace.army.mil/Missions/Regulatory-Program/Nebraska/.

The Corps has invited Natural Resources Conservation Service, U.S. Environmental Protection Agency, Federal Highway Administration, U.S. Fish and Wildlife Service, Nebraska Department of Environmental Quality, and Nebraska Game and Parks Commission to be cooperating agencies in the preparation of the EIS. Additionally, the Corps has invited the Nebraska State Historic Preservation Office and the Nebraska Department of Natural Resources to serve as commenting agencies during the preparation of the EIS.

John L. Moeschen,
Nebraska State Program Manager, Regulatory Branch.

[FR Doc. 2018-23451 Filed 10-30-18; 8:45 am]

BILLING CODE 3720-58-P